DEPARTMENT OF HEALTH AND HUMAN SERVICES

Centers for Disease Control and Prevention

[30Day-08-07BE]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-4766 or send an e-mail to omb@cdc.gov. Send written comments to CDC Desk Officer, Office of Management and Budget, Washington, DC or by fax to (202) 395-6974. Written comments should be received within 30 days of this notice.

Proposed Project

Research to Reduce Time to Treatment for Heart Attack/Myocardial Infarction for Rural American Indians/Alaska Natives (AI/AN)—New—National Center for Chronic Disease Prevention and Health Promotion (NCCDPHP), Centers for Disease Control and Prevention (CDC).

Background and Brief Description

Every year, approximately 1.1 million Americans have a first or recurrent heart attack/myocardial infarction (MI) and about one third of these will be fatal. Early recognition of MI by both the victim and bystanders followed by prompt cardiac emergency and advanced care has a direct effect on patient outcomes; the shorter the delay to treatment, the better the outcomes. Research indicates that public recognition of major MI symptoms, and the need for immediate action by calling 9-1-1, is poor and that patient delay accounts for most of the lag in treatment. Additional data from the National MI Registry suggest that the greatest disparity for time to treatment exists among racial and ethnic minorities and that the American Indian/Alaska Native (AI/AN) group has the longest delay times.

CDC requests OMB approval to conduct a study to address gaps in knowledge about MI and to develop a key health message for reducing time to treatment in AI/AN populations. Respondents will be recruited from three regions of the U.S. Information about knowledge, attitudes and behaviors will be collected through interviews with key informants including medical care providers, tribal community leaders, and individual AI/AN community members. In addition, more detailed information will be collected through extended focus group discussions with AI/AN community members who have experienced an MI or who are considered at high risk for MI.

The information to be collected will be used to improve understanding of the barriers and facilitators that impact recognition of MI signs in AI/AN communities and decisions to seek treatment; to develop culturally appropriate health messages; and to identify effective message delivery methods. The messages will be consistent with those developed for the “Act In Time” action plan funded by HHS/National Heart, Lung and Blood Institute/National Heart Attack Alert Program (HHS/NHLBI/NHAP). The overall objective is to improve MI outcomes in AI/AN populations.

There are no costs to respondents other than their time. The total estimated annualized burden hours are 233.

Estimated Annualized Burden Hours
Type of respondents | Form name | Number of respondents | Number of responses per respondent | Average burden (in hours)
Medical Providers | Interest Form | 54 | 1 | 3/60
| Interview Guide for Providers | 27 | 1 | 1
Tribal Community Leaders | Interest Form | 30 | 1 | 3/60
| Interview Guide for Community Leaders | 15 | 1 | 45/60
Individual Tribal Community Members | Interest Form | 252 | 1 | 3/60
| Interview Guide for Individuals | 126 | 1 | 45/60
AI/AN Community Members with Prior MI | Interest Form | 12 | 1 | 3/60
| Discussion Guide for MI Group | 8 | 1 | 5
AI/AN Community Members without Prior MI | Interest Form | 12 | 1 | 3/60
| Discussion Guide for non-MI Group | 8 | 1 | 5

Dated: July 16, 2008.
Maryam I. Daneshvar,
Acting Reports Clearance Officer, Centers for Disease Control and Prevention.

[FR Doc. E8-16944 Filed 7-23-08; 8:45 am]

BILLING CODE 4163-18-P